DEPARTMENT OF THE INTERIOR

Bureau of Indian Affairs

Submission of Information Collection to the Office of Management and Budget for Review Under the Paper Work Reduction Act

AGENCY: Bureau of Indian Affairs, Interior.

ACTION: Notice of renewal of a currently approved information collection.

SUMMARY: In compliance with the Paperwork Reduction Act of 1995, this notice announces that the Bureau of Indian Affairs has submitted to the Office of Management and Budget a request for approval and renewal of information collections, OMB Control No. 1076-0017, Financial Assistance and Social Service Program application form.

DATES: Written comments must be submitted on or before June 27, 2002.

ADDRESSES: Written comments should be sent directly to the Office of Management and Budget, Office of Regulatory Affairs, Docket Library Attention: Desk Officer Room 10102, 725 17th Street NW., Washington, DC 20503.

Send a copy of your comments to Larry Blair, Office of Tribal Services, Bureau of Indian Affairs, Department of Interior, 1849 C Street, NW., MS-4660-MIB, Washington, DC 20240.

FOR FURTHER INFORMATION CONTACT: Interested persons can obtain additional information regarding collection requests with no additional charge by contacting Larry Blair, 202-208-2479. Facsimile number (202) 208-2648.

SUPPLEMENTARY INFORMATION:

I. Abstract

The information collected is necessary to be in compliance with 25 CFR part 20. Funding is authorized by 25 U.S.C. 13. The information is used to make determinations of eligibility for the BIA's social service (financial assistance) programs: General Assistance, Child Welfare Assistance, Miscellaneous Assistance, and services only (no cash assistance).

A 60-day notice for public comments was published in the Federal Register on February 15, 2002 (67 FR 7190). The only comment received was that the form should be lengthened. The justification was not adequate to revise the form nor was this consistent with the BIA policy to reduce paperwork where possible.

II. Request for Comments

The Department of the Interior invites comments being sent to OMB on:

(a) Whether the collection of information is necessary for the proper performance of the functions of the BIA, including whether the information will have practical utility;

(b) The accuracy of the BIA's estimate of the burden (including hours and cost) of the proposed collection of information, including the validity of the methodology and assumptions used;

(c) Ways to enhance the quality, utility, and clarity of the information to be collected; and

(d) Ways to minimize the burden of the collection of information on those who are to respond, including through the use of appropriate automated, electronic, mechanical, or other collection techniques or other forms of information technology.

An agency may not conduct or sponsor, and a person is not required to respond to a collection of information unless it displays a currently valid OMB control number. Burden means the total time, or financial resources expended by persons to generate, maintain, retain, or disclose or provide information to or for a Federal agency. This includes the time needed to review instructions; to develop, acquire, install and utilize technology and systems for the purpose of collection, validating, and verifying information, processing and maintaining information, and disclosing and providing information, to search data sources to complete and review the collection of information; and to transmit or otherwise disclose the information.

III. Data

Title of the collection of information: Department of the Interior, Bureau of Indian Affairs, Financial Assistance and Social Service Programs.

OMB Number: 1076-0017.

Expiration Date: June 30, 2002.

Type of Review: Extension of a currently approved collection. The information is submitted to obtain or retain benefits and for case management/case planning purposes.

Affected Entities: Individual members of Indian tribes who are living on a reservation or within a tribal service area.

Frequency of responses: One application per year.

Estimated Number of Annual Responses: 200,000.

Estimated Total Annual Burden Hours: 200,000 × 15 min. = 50,000 hours.

Dated: May 13, 2002.
Neal A. McCaleb,
Assistant Secretary—Indian Affairs.

[FR Doc. 02-13274 Filed 5-24-02; 8:45 am]

BILLING CODE 4310-4J-P